DEPARTMENT OF COMMERCE

Foreign-Trade Zones Board

[B-76-2013]

Subzones 247A and 247B, Authorization of Production Activity, GE Transportation, (Locomotives, Off-Highway Vehicles and Motors/Engines), Lawrence Park and Grove City, Pennsylvania

On July 18, 2013, GE Transportation submitted a notification of proposed production activity to the Foreign-Trade Zones (FTZ) Board for its facilities within Subzones 247A and 247B, in Lawrence Park and Grove City, Pennsylvania.

The notification was processed in accordance with the regulations of the FTZ Board (15 CFR part 400), including notice in the Federal Register inviting public comment (78 FR 46315-46318, 7-31-2013). The FTZ Board has determined that no further review of the activity is warranted at this time. The production activity described in the notification is authorized, subject to the FTZ Act and the Board's regulations, including Section 400.14. As noted in the request, textile inputs (classified under HTSUS Subheadings 4202.92, 5911.90 and 6306.12) will be admitted to the subzones in privileged foreign status (19 CFR 146.41).

Dated: December 2, 2013.
Andrew McGilvray,
Executive Secretary.

[FR Doc. 2013-29347 Filed 12-6-13; 8:45 am]

BILLING CODE 3510-DS-P